SECURITIES AND EXCHANGE COMMISSION

[File No. 500-1]

iVoice, Inc., Protectus Medical Devices, Inc., and St. Lawrence Energy Corp.; Order of Suspension of Trading

August 14, 2013.

It appears to the Securities and Exchange Commission that there is a lack of current and accurate information concerning the securities of iVoice, Inc. because it has not filed any periodic reports since the period ended September 30, 2011.

It appears to the Securities and Exchange Commission that there is a lack of current and accurate information concerning the securities of Protectus Medical Devices, Inc. because it has not filed any periodic reports since the period ended September 30, 2010.

It appears to the Securities and Exchange Commission that there is a lack of current and accurate information concerning the securities of St. Lawrence Energy Corp. because it has not filed any periodic reports since the period ended September 30, 2009.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on August 14, 2013, through 11:59 p.m. EDT on August 27, 2013.

By the Commission.
Jill M. Peterson,
Assistant Secretary.

[FR Doc. 2013-20100 Filed 8-14-13; 11:15 am]

BILLING CODE 8011-01-P